DEPARTMENT OF STATE

[Public Notice 3733]

Systems and Integration Office, Applications Programming Division; Information Collection Under Emergency Review: Electronic Telephone Directory (e*Phone)

AGENCY: Department of State.

ACTION: Notice.

SUMMARY: The Department of State has submitted the following information collection request to the Office of Management and Budget (OMB) for review and approval in accordance with the emergency review procedures of the Paperwork Reduction Act of 1995.

Type of Request: Emergency Review.

Originating Office: IRM/SIO/APD/CSB.

Title of Information Collection: Electronic Telephone Directory (e*Phone).

Frequency: On occasion.

Form Number: Not applicable.

Respondents: Department of State Contractor Staff.

Estimated Number of Respondents: 8,000.

Average Hours Per Response: 1/12 hour (5 minutes).

Total Estimated Burden: 333 hours per year; 4,000 annual responses.

The proposed information collection is published to obtain comments from the public and affected agencies. Emergency review and approval of this collection has been requested from OMB by June 30, 2001. If granted, the emergency approval is only valid for 180 days. Comments should be directed to the State Department Desk Officer, Office of Information and Regulatory Affairs, Office of Management and Budget (OMB), Washington, DC 20530, (202) 395-3897.

During the first 60 days of this same period a regular review of this information collection is also being undertaken. Comments are encouraged and will be accepted until 60 days from the date of publication of this notice in the Federal Register. The agency requests written comments and suggestions from the public and affected agencies concerning the proposed collection of information. Your comments are being solicited to permit the agency to:

• Evaluate whether the proposed collection of information is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Jerry Blasenstein, U.S. Department of State, IRM/SIO/APD/CSB, Room 3202/SA15, 2201 C St., NW., Washington, DC 20520.

Dated: June 22, 2001.
Patricia A. Popovich,
Deputy Chief Information Officer, Bureau of IRM, Executive Office, Department of State.

[FR Doc. 01-19026 Filed 7-30-01; 8:45 am]

BILLING CODE 4710-22-P